DEPARTMENT OF COMMERCE

National Oceanic and Atmospheric Administration

50 CFR Part 600

[I.D. 012902C]

Magnuson-Stevens Act Provisions; General Provisions for Domestic Fisheries; Atlantic Coastal Fisheries Cooperative Management; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast Multispecies Fishery Management Plan (FMP). However, further review and consultation may be necessary before a final determination is made to issue EFPs. Therefore, NMFS announces that the Regional Administrator has made a preliminary decision to issue EFPs that would allow three federally permitted fishing vessels to conduct fishing operations otherwise restricted by the regulations governing the Northeast multispecies fishery. EFPs would allow the federally permitted vessels to compare a standard flounder otter trawl to a modified flounder otter trawl in order to estimate cod bycatch reduction in the modified trawl. EFPs are needed to allow the fishing activities to be conducted in areas of the Gulf of Maine (GOM) otherwise closed to fishing in March and April. Regulations under the Magnuson-Stevens Fishery Conservation and Management Act (Magnuson-Stevens Act) require publication of this notification to provide interested parties the opportunity to comment on applications for proposed EFPs.

DATES: Comments must be received on or before March 6, 2002.

ADDRESSES: Written comments should be sent to Patricia A. Kurkul, Regional Administrator, NMFS, Northeast Regional Office, 1 Blackburn Drive, Gloucester, MA 01930-2298. Mark the outside of the envelope “Comments on EFP Proposal.” Comments may also be sent via facsimile (fax) to (978) 281-9135. A copy of the proposal and the Environmental Assessment are available from the Northeast Regional Office at the address stated above.

FOR FURTHER INFORMATION CONTACT: Peter Christopher, Fishery Policy Analyst, 978-281-9288.

SUPPLEMENTARY INFORMATION: The Massachusetts Division of Marine Fisheries (MADMF) submitted an application on January 16, 2002, to conduct an experimental fishery using three federally permitted vessels to fish with experimental fishing gear in and near the GOM Rolling Closures during March and April, 2002. The experiment is a continuation of an experiment that the MADMF conducted in 2001.

The continuation of the experiment is necessary to expand the level of information and data that the MADMF has collected on the experimental flounder trawl and to conduct the experimental fishing at a time when, and in areas where, both flounder and cod are in abundance relative to other areas and times of the year. Experimental fishing in 2001 demonstrated a reduction of cod bycatch of between 75 and 90 percent, compared to traditional flounder otter trawl gear. The MADMF anticipates this reduction in bycatch to continue.

The proposed experiment would be conducted in March and April in statistical areas 123 and 124 in the GOM. According to the MADMF, operation of the experiment in statistical areas 123 and 124 in March and April would allow the experiment to occur when concentrations of flounder and cod are high enough to demonstrate sufficiently the gear's effectiveness in catching flounder and reducing cod bycatch. EFPs are required because statistical areas 123 and 124 are closed to fishing during March and April under the GOM Rolling Closure Areas I and II. The participating vessels would be allowed to retain 400 lb (181.4 kg) of cod for each 24-hour period they are fishing, as allowed by the regulations at 50 CFR 648.86(b)(i). Any remaining cod captured during the experiment would be immediately returned to the sea. The MADMF anticipates a 50-percent survival rate of released cod collected, based on research conducted by the MADMF.

The MADMF expects that the experiment this year will allow expansion of the data that they have collected from prior experiments, investigation of daytime and nighttime catches, and comparisons of the data between two different vessels. Information obtained by MADMF (and provided to NMFS after completion) could provide for potential gear modification alternatives to be used in the groundfish fishery to prevent the bycatch of cod in directed flounder fisheries.

Based on the results of this EFP, this action may lead to future rulemaking.

Dated: February 12, 2002.
Bruce C. Morehead,
Acting Director, Office of Sustainable Fisheries, National Marine Fisheries Service.

[FR Doc. 02-3980 Filed 2-15-02; 8:45 am]

BILLING CODE 3510-22-S